NATIONAL ARCHIVES AND RECORDS ADMINISTRATION

Advisory Committee on the Records of Congress

AGENCY: National Archives and Records Administration.

ACTION: Notice of meeting.

SUMMARY: In accordance with the Federal Advisory Committee Act, the National Archives and Records Administration (NARA) announces a meeting of the Advisory Committee on the Records of Congress. The committee advises NARA on the full range of programs, policies, and plans for the Center for Legislative Archives in the Office of Records Services. The meeting will be open to the public.

DATES: This meeting will be held on December 6, 2010 from 10 a.m. to 11:30 a.m.

ADDRESSES: Capitol Visitor Center, Congressional Meeting Room South.

FOR FURTHER INFORMATION CONTACT: Richard H. Hunt, Director; Center for Legislative Archives; (202) 357-5350.

SUPPLEMENTARY INFORMATION:

Agenda

(1) Chair's opening remarks—Clerk of the House;

(2) Recognition of Co-chair—Secretary of the Senate;

(3) Recognition of the Archivist of the United States;

(4) Approval of the minutes of the last meeting;

(5) Discussion of on-going projects and activities;

(6) Annual Report of the Center for Legislative Archives;

(7) Other current issues and new business.

Dated: November 9, 2010.
Mary Ann Hadyka,
Committee Management Officer.

[FR Doc. 2010-28794 Filed 11-15-10; 8:45 am]

BILLING CODE 7515-01-P